DEPARTMENT OF ENERGY

Federal Energy Regulatory Commission

Combined Notice of Filings #2

Take notice that the Commission received the following electric rate filings:

Docket Numbers: ER10-2984-011.

Applicants: Merrill Lynch Commodities, Inc.

Description: Supplement to June 21, 2013 Updated Market Power Analysis for the Southwest Region of Merrill Lynch Commodities, Inc.

Filed Date: 3/18/14.

Accession Number: 20140318-5145.

Comments Due: 5 p.m. ET 4/1/14.

Docket Numbers: ER13-2318-001; ER13-1430-002; ER10-2743-003; ER12-637-001; ER13-1561-002; ER12-995-001; ER10-2793-003; ER10-1854-003; ER13-2317-001; ER10-2755-003; ER10-2739-006; ER11-27-004; ER11-3320-003; ER13-2319-001; ER10-2751-003; ER10-2744-004; ER10-2740-004; ER13-2316-001; ER10-2742-003; ER10-1631-003; ER11-3321-003; ER14-19-001.

Applicants: All Dams Generation, LLC, Arlington Valley Solar Energy II, LLC, Bluegrass Generation Company, L.L.C., Calhoun Power Company, LLC, Cherokee County Cogeneration Partners, LLC, DeSoto County Generating Company, LLC, Doswell Limited Partnership, Lake Lynn Generation, LLC, Las Vegas Power Company, LLC, LS Power Marketing, LLC, LSP Safe Harbor Holdings, LLC, LSP University Park, LLC, PE Hydro Generation, LLC, Renaissance Power, L.L.C, Riverside Generating Company, L.L.C., Rocky Road Power, LLC, Seneca Generation, LLC, Tilton Energy, LLC, University Park Energy, LLC, Wallingford Energy LLC, West Deptford Energy, LLC, Centinela Solar Energy, LLC.

Description: Notification of Change in Status of the LS Power Development, LLC subsidiaries.

Filed Date: 3/14/14.

Accession Number: 20140314-5195.

Comments Due: 5 p.m. ET 4/4/14.

Docket Numbers: ER14-1363-002.

Applicants: Kendall Green Energy LLC.

Description: Kendall Green Market Based Rate Tariff Revision to be effective 1/31/2014.

Filed Date: 3/18/14.

Accession Number: 20140318-5151.

Comments Due: 5 p.m. ET 4/8/14.

Docket Numbers: ER14-1373-002.

Applicants: Energy Utility Group, LLC.

Description: 2nd Amended MBR Tariff Filing to be effective 3/31/2014.

Filed Date: 3/18/14.

Accession Number: 20140318-5131.

Comments Due: 5 p.m. ET 4/8/14.

Docket Numbers: ER14-1519-000.

Applicants: Edison Mission Marketing & Trading, Inc.

Description: Edison Mission Marketing & Trading, LLC Notice of Succession to be effective 2/20/2014.

Filed Date: 3/18/14.

Accession Number: 20140318-5122.

Comments Due: 5 p.m. ET 4/8/14.

Docket Numbers: ER14-1520-000.

Applicants: Shell Energy North America (US), L.P.

Description: Second Rev MBR & CIS to be effective 3/19/2014.

Filed Date: 3/18/14.

Accession Number: 20140318-5130.

Comments Due: 5 p.m. ET 4/8/14.

Take notice that the Commission received the following open access transmission tariff filings:

Docket Numbers: OA07-28-007.

Applicants: Avista Corporation.

Description: Avista Corporation's Informational Filing of Operational Penalty Assessments and Distributions as Required by Order Nos. 890 and 890-A in OA07-28.

Filed Date: 3/18/14.

Accession Number: 20140318-5153.

Comments Due: 5 p.m. ET 4/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2014.
Nathaniel J. Davis, Sr.,
Deputy Secretary.

[FR Doc. 2014-06532 Filed 3-24-14; 8:45 am]

BILLING CODE 6717-01-P